DEPARTMENT OF TRANSPORTATION

Federal Highway Administration

Notice of Final Federal Agency Actions on Proposed Highway in Washington

AGENCY: Federal Highway Administration (FHWA), DOT.

ACTION: Notice of limitation on claims for judicial review of actions by FHWA.

SUMMARY: This notice announces actions taken by FHWA that are final within the meaning of 23 U.S.C. 139(l)(1). The actions relate to a proposed highway project, the SR 99 S. Holgate Street to S. King Street Viaduct Replacement Project, in the State of Washington. Those actions grant licenses, permits, and approvals for the project.

DATES: By this notice, the FHWA is advising the public of final agency actions subject to 23 U.S.C. 139(l)(1). A claim seeking judicial review of the Federal agency actions on the highway project will be barred unless the claim is filed on or before September 14, 2009. If the Federal law that authorizes judicial review of a claim provides a time period of less than 180 days for filing such claim, then that shorter time period still applies.

FOR FURTHER INFORMATION CONTACT: Sharon Love, Environmental Program Manager, Federal Highway Administration, 711 S. Capitol Way, Suite 501, Olympia, Washington, 98501; telephone: (360) 753-9558; and e-mail: sharon.love@dot.gov. The FHWA Washington Division's Environmental Manager's regular office hours are between 8 a.m. and 4:30 p.m. (Pacific Time). You may also contact Angela Freudenstein, Environmental Manager, 999 Third Ave., Suite 2424, Seattle, WA 98104; telephone: 206-382-5230; and e-mail: freuda@wsdot.wa.gov. The SR 99 Project's regular office hours are between 8 a.m. and 5 p.m. (Pacific Time).

SUPPLEMENTARY INFORMATION: Notice is hereby given that FHWA has taken final agency actions by issuing licenses, permits, and approvals for the following highway project: SR 99 S. Holgate Street to S. King Street Viaduct Replacement Project. The purpose of the project is to replace the seismically vulnerable SR 99 mainline with a seismically sound facility between approximately S. Holgate Street and S. King Street. The new SR 99 facility would maintain or improve access to, from, and across SR 99 for general purpose vehicles, transit, and freight. The project is located in the south downtown (SODO) area of Seattle, King County.

The actions by FHWA on this project, and the laws under which such actions were taken, are described in the June 2008 Environmental Assessment (EA), February 2009 Finding of No Significant Impact (FONSI), and in other documents in the FHWA administrative record for the project. The EA, FONSI and other documents in the FHWA administrative record are available by contacting FHWA or the Washington State Department of Transportation at the addresses provided above.

The EA and FONSI can be viewed and downloaded from the project Web site at www.alaskanwayviaduct.org or viewed at the Seattle Public Library as well as local neighborhood service centers in the project area. This notice applies to all Federal agency decisions on the project as of the issuance date of this notice and all laws under which such actions were taken, including but not limited to:

1. General: National Environmental Policy Act [42 U.S.C. 4321-4351]; Federal-Aid Highway Act [23 U.S.C. 109].

2. Air: Clean Air Act, as amended [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544]; Anadromous Fish Conservation Act [16 U.S.C. 757(a)-757(g)]; Fish and Wildlife Coordination Act [16 U.S.C. 661-667(d)]; Magnuson-Stevenson Fishery Conservation and Management Act of 1976, as amended [16 U.S.C. 1801 et seq.].

5. Historic and Cultural Resources: Section 106 of the National Historic Preservation Act of 1966, as amended [16 U.S.C. 470(f) et seq.]; Archaeological Resources Protection Act of 1977 [16 U.S.C. 470(aa)-11]; Archaeological and Historic Preservation Act [16 U.S.C. 469-469(c)]; Native American Grave Protection and Repatriation Act [25 U.S.C. 3001-3013].

6. Social and Economic: Civil Rights Act of 1964 [42 U.S.C. 2000(d)-2000(d)(1)]; American Indian Religious Freedom Act [42 U.S.C. 1996]; Farmland Protection Policy Act [7 U.S.C. 4201 -4209]; the Uniform Relocation Assistance and Real Property Acquisition Policies Act of 1970, as amended [42 U.S.C. 61].

7. Wetlands and Water Resources: Clean Water Act, 33 U.S.C. 1251-1377 (Section 404, Section 401, Section 319); Coastal Zone Management Act [16 U.S.C. 1451-1465]; Land and Water Conservation Fund [16 U.S.C. 4601-4604]; Safe Drinking Water Act [42 U.S.C. 300(f)-300(j)(6)]; Rivers and Harbors Act of 1899 [33 U.S.C. 401-406]; TEA-21 Wetlands Mitigation [23 U.S.C. 103(b)(6)(m), 133(b)(11)]; Flood Disaster Protection Act [42 U.S.C. 4001-4128].

8. Hazardous Materials: Comprehensive Environmental Response, Compensation, and Liability Act [42 U.S.C. 9601-9675]; Superfund Amendments and Reauthorization Act of 1986 [PL 99-499]; Resource Conservation and Recovery Act [42 U.S.C. 6901-6992(k)].

9. Executive Orders: EO. 11990 Protection of Wetlands; EO. 11988 Floodplain Management; E.O. 12898, Federal Actions to Address Environmental Justice in Minority Populations and Low Income Populations; EO. 11593 Protection and Enhancement of Cultural Resources; E.O. 13007 Indian Sacred sites; E.O.13287 Preserve America; EO. 13175 Consultation and Coordination with Indian Tribal Governments; E.O. 11514 Protection and Enhancement of Environmental Quality; EO. 13112 Invasive Species.

(Catalog of Federal Domestic Assistance Program Number 20.205, Highway Planning and Construction. The regulations implementing Executive Order 12372 regarding intergovernmental consultation on Federal programs and activities apply to this program.)

Authority: 23 U.S.C. 139(l)(1).

Sharon Love,
Environmental Program Manager, Olympia, Washington.

[FR Doc. E9-5806 Filed 3-17-09; 8:45 am]

BILLING CODE 4910-RY-P